DEPARTMENT OF ENERGY

Federal Energy Regulatory Commission

Notice

September 11, 2002.

The following notice of meeting is published pursuant to section 3(A) of the Government in the Sunshine Act (Pub. L. No. 94-409), 5 U.S.C 552B:

AGENCY HOLDING MEETING: Federal Energy Regulatory Commission.

DATE AND TIME: September 18, 2002, 10:00 a.m.

PLACE: Room 2C, 888 First Street, NE., Washington, DC 20426.

STATUS: Open.

MATTERS TO BE CONSIDERED: Agenda. Note—Items listed on the agenda may be deleted without further notice.

CONTACT PERSON FOR MORE INFORMATION: Magalie R. Salas, Secretary, Telephone (202) 502-8400. For a recording listing items stricken from or added to the meeting, call (202)502-8627.

This is a list of matters to be considered by the commission. It does not include a listing of all papers relevant to the items on the agenda; however, all public documents may be examined in the reference and information center.

805th—Meeting September 18, 2002, Regular Meeting, 10:00 a.m.

Administrative Agenda

A-1.

Docket# AD02-1, 000, Agency Administrative Matters

A-2.

Docket# AD02-7, 000, Customer Matters, Reliability, Security and Market Operations

Markets, Tariffs and Rates—Electric

E-1.

Docket# ER02-2330, 000, New England Power Pool

Other#s EL00-62 036 ISO New England Inc.

EL00-62 039 ISO New England Inc.

E-2.

Omitted

E-3.

Docket# ER02-2216, 000, Southern Company Services, Inc.

E-4.

Docket# ER02-2414, 000, Florida Power & Light Company

E-5.

Omitted

E-6.

Docket# ER02-1961, 000, New York Independent System Operator Inc.

Other#s ER02-1961, 001, New York Independent System Operator Inc.

E-7.

Omitted

E-8.

Docket# ER02-708, 000, Central Illinois Light Company

E-9.

Docket# RT01-15, 002, Avista Corporation, Nevada Power Company, Portland General Electric Company and Sierra Pacific Power Company

Other#s ER02-323, 000, TransConnect, LLC

E-10.

Docket# RT01-35, 005, Avista Corporation, Bonneville Power Administration, Idaho Power Company, Nevada Power Company, NorthWestern Energy, LLC, PacifiCorp, Portland General Electric Company, Puget Sound Energy, Inc., Sierra Pacific Power Company and British Columbia Hydro and Power Authority

Other#s RT01-35, 007, Avista Corporation, Bonneville Power Administration, Idaho Power Company, Nevada Power Company, NorthWestern Energy, LLC, PacifiCorp, Portland General Electric Company, Puget Sound Energy, Inc., Sierra Pacific Power Company and British Columbia Hydro and Power Authority

E-11.

Docket# RT02-1, 000, Arizona Public Service Company

Other#s EL02-9, 000, Arizona Public Service Company

E-12.

Omitted

E-13.

Docket# OA97-282, 001, Cleco Utility Group, Inc.

Other#s OA97-324, 001, Cleco Utility Group, Inc.

OA97-325, 001, Cleco Utility Group, Inc.

E-14.

Omitted

E-15.

Docket# EC98-40, 000, American Electric Power Company, Inc. and Central and South West Corp.

Other#s ER98-2770, 000, American Electric Power Company, Inc. and Central and South West Corp.

ER98-2786, 000, American Electric Power Company, Inc. And Central and South West Corp.

E-16.

Docket# ER00-2998, 001, Southern Company Services, Inc.

Other#s ER00-2824, 000, Mississippi Power Company

ER00-2962, 002, West Georgia Generating Company, LP

ER00-2964, 002, West Georgia Generating Company, LP

ER00-2965, 002, West Georgia Generating Company, LP

ER00-2966, 002, West Georgia Generating Company, LP

ER00-2999, 001, Southern Company Services, Inc.

ER00-2999, 002, Southern Company Services, Inc.

ER00-3001, 001, Southern Company Services, Inc.

ER00-3001, 002, Southern Company Services, Inc.

ER01-168, 000, Tenaska Frontier Partners, Ltd.

ER01-207, 000, Newark Bay Cogeneration Partnership LP

ER01-287, 000, Alcoa Power Generating, Inc.

ER01-896, 000, San Joaquin CoGen Limited

ER01-986, 000, Allegheny Energy Supply Company, LLC

ER01-1147, 000, Exelon Generation Company L.L.C.

ER01-1150, 000, Southern Company Services, Inc.

ER01-1284, 000, Mississippi Power Company

ER01-1284, 001, Mississippi Power Company

ER01-1328, 001, American Electric Power Service Corporation

ER01-1405, 000, Mississippi Power Company

ER01-1405, 001, Mississippi Power Company

ER01-1615, 000, Southern Power Company

ER01-1718, 000, Dynegy Power Marketing, Inc.

ER01-1718, 001, Cabrillo Power I LLC

ER01-1801, 000, Tucson Electric Power Company

ER01-1847, 000, Allegheny Energy Supply Company, LLC

ER01-1966, 000, Cinergy Services, Inc.

ER01-1972, 000, Gray County Wind Energy, LLC

ER01-2074, 000, Calhoun Power Company LLC

ER01-2081, 000, Allegheny Energy Supply Company, LLC

ER01-2788, 000, Allegheny Energy Supply Company, LLC

ER01-2887, 001, South Point Energy Center, LLC

ER01-2930, 000, Allegheny Energy Supply Company, LLC

ER01-2931, 000, Allegheny Energy Supply Company, LLC

ER02-18, 000, Allegheny Energy Service Corporation

ER02-292, 000, Entergy Nuclear Indian Point 2, LLC

ER02-298, 000, Thompson River Co-Gen, LLC

ER02-336, 000, Combined Locks Energy Center, LLC

ER02-385, 000, Allegheny Energy Service Corporation

ER02-570, 000, Allegheny Energy Service Corporation

ER02-741, 000, Exelon Generating Company, LLC

ER02-786, 000, AmerGen Energy Company LLC

ER02-838, 000, American Electric Power Service Corporation

ER02-862, 000, Entergy Power Ventures, L.P.

ER02-870, 000, Southwestern Electric Power Company

ER02-887, 000, California Independent System Operator Corporation

ER02-904, 000, Entergy Nuclear Generation Company

ER02-906, 000, Camden Cogen L. P.

ER02-907, 000, Southern Company Services, Inc.

ER02-932, 000, Virginia Electric and Power Company

ER02-937, 000, Cobb Electric Membership Corporation

ER02-1022, 000, Green Country Energy, LLC

ER02-1025, 000, Liberty Electric Power, LLC

ER02-1040, 000, Griffith Energy LLC

ER02-1065, 000, WPS Canada Generation, Inc.

ER02-1066, 000, WPS New England Generation, Inc.

ER02-1173, 000, Front Range Power Company, LLC

ER02-1179, 000, Mississippi Power Company

ER02-1250, 000, West Georgia Generating Company, L.L.C

ER02-1257, 000, Hermiston Power Partnership

ER02-1373, 000, Shady Hills Power Company, L.L.C.

E-17.

Omitted

E-18.

Docket# RM01-8, 001, Filing Requirements for Electric Utility Service Agreements

Other#s RM01-8, 002, Filing Requirements for Electric Utility Service Agreements

E-19.

Docket# EL00-95 062 San Diego Gas & Electric Company v. Sellers of Energy and Ancillary Services Into Markets Operated by the California Independent System Operator Corporation and the California Power Exchange Corporation

Other#s EL00-97, 004, Reliant Energy Power Generation, Inc., Dynegy Power Marketing, Inc. and Southern Energy California v. California Independent System Operator

EL00-98 051 Investigation of Practices of California Independent System Operator Corporation and the California Power Exchange

EL00-104, 009, California Electricity Oversight Board v. All Sellers of Energy and Ancillary Services Markets Operated by the California Independent System Operator and the California Power Exchange

EL00-107, 010, San Diego Public Meeting

ER00-3461, 004, California Power Exchange Corporation

ER00-3673, 003, California Independent System Operator Corporation

EL01-1, 010, California Municipal Utilities Association v. All Jurisdictional Sellers of Energy and Ancillary Services Into Markets Operated by the California Independent System Operator Corporation and the California Power Exchange

EL01-2, 004, CAlifornians for Renewable Energy, Inc. v. Independent Energy Producers., and All Sellers of Energy and Ancillary Services Into Markets Operated by the California Independent System Operator and the California Power Exchange; All Scheduling Coordinators Acting on Behalf of the Above Sellers; California Independent System Operator Corporation; and the California Power Exchange Corporation

EL01-10, 004, Puget Sound Energy, Inc. v. All Jurisdictional Sellers of Energy and/or Capacity at Wholesale Into Electric Energy and/or Capacity Markets in the Pacific Northwest, Including Parties to The Western Systems Power Pool Agreement

EL01-34, 003, Southern California Edison Company and Pacific Gas and Electric Company

EL01-68, 014, Investigation of Wholesale Rates of Public Utility Sellers of Energy and Ancillary Services in the Western Systems Coordinating Council RT01-85, 009, California Independent System Operator Corporation

ER01-607, 003, California Independent System Operator Corporation

ER01-1444, 004, Arizona Public Service Company

ER01-1445, 004, Automated Power Exchange, Inc.

ER01-1446, 006, Avista Energy, Inc.

ER01-1447, 004, California Power Exchange Corporation

ER01-1448, 006, Duke Energy Trading & Marketing, LLC

ER01-1449, 007, Dynegy Power Marketing, Inc.

ER01-1450, 004, Nevada Power Company

ER01-1451, 007, Portland General Electric Company

ER01-1452, 004, Public Service Company of Colorado

ER01-1453, 008, Reliant Energy Services, Inc.

ER01-1454, 004, Sempra Energy Trading Corporation

ER01-1455, 010, Mirant California, LLC, Mirant Delta LLC, Mirant Potero Corporation

ER01-1456, 011, Williams Energy Services Corporation

ER01-1579, 004, California Independent System Operator Corporation

E-20.

Docket# EL01-122, 003, PJM Interconnection L.L.C.

Other#s EL01-122, 002, PJM Interconnection L.L.C.

EL01-122, 004, PJM Interconnection L.L.C.

E-21.

Docket# EL02-71, 001, State of California, ex rel. Bill Lockyer, Attorney General of the State of California v. British Columbia Power Exchange Corp., Coral Power, LLC, Dynegy Power Marketing, Inc., Enron Power Marketing, Inc., Mirant Americas Energy Marketing, L.P., Reliant Energy Services, Inc., Williams Energy Marketing & Trading Co., All Other Public Utility Sellers of Energy and Ancillary Services to the California Energy Resources Scheduling Division of the California Department of Water Resources, and All Other Public Utility Sellers of Energy and Ancillary Services into Markets Operated by the California Power Exchange and the California Independent System Operator Corporation

E-22.

Omitted

E-23.

Docket# ER02-1764, 001, Southern California Edison Company

E-24. Dcocket# ER02-602, 002, American Electric Power Service Corporation

Other#s ER01-2658, 002, American Electric Power Service Corporation

ER01-2977, 002, American Electric Power Service Corporation

ER01-2980, 002, American Electric Power Service Corporation

ER02-371, 004, American Electric Power Service Corporation

ER02-371, 005, American Electric Power Service Corporation

ER02-1216, 001, American Electric Power Service Corporation

E-25.

Omitted

E-26.

Docket# EL00-89, 000, Southern California Edison Company

E-27.

Docket# EL99-85, 000, Sierra Pacific Power Company

E-28.

Docket# EL02-103, 000, City of Vernon, California

E-29.

Omitted

E-30.

Docket# EL02-59, 000, KeySpan-Ravenswood, Inc. v. New York Independent System Operator, Inc.

E-31.

Omitted

E-32.

Docket# EL02-91, 000, Williams Energy Marketing & Trading Company v. Southern Company Services, Inc.

E-33.

Docket# EL02-108, 000, Truckee Donner Public Utility District v. Idaho Power Company, IDACORP Energy, L.P. and IDACORP, Inc.

E-34.

Docket# ER02-485, 000, Midwest Independent Transmission System Operator, Inc.

E-35.

Docket# EL02-23, 001, Consolidated Edison Company of New York, Inc. v. Public Service Electric and Gas Company, PJM Interconnection, L.L.C. and the New York Independent System Operator, Inc.

E-36.

Docket# EL02-100, 000, Public Utility District No. 1 of Snohomish County, Washington v. American Electric Power Service Corporation

Other#s EL02-109, 000, Sacramento Municipal Utility District v. Duke Energy Trading and Marketing

EL02-26, 000, Nevada Power Company and Sierra Pacific Power Company v. Duke Energy Trading and Marketing, L.L.C., Enron Power Marketing, Inc., El Paso Merchant Energy and American Electric Power Services Corp.

EL02-28, 000, Nevada Power Company and Sierra Pacific Power Company v. Duke Energy Trading and Marketing, L.L.C., Enron Power Marketing, Inc., El Paso Merchant Energy and American Electric Power Services Corp.

EL02-33, 000, Nevada Power Company and Sierra Pacific Power Company v. Duke Energy Trading and Marketing, L.L.C., Enron Power Marketing, Inc., El Paso Merchant Energy and American Electric Power Services Corp.

EL02-38, 000, Nevada Power Company and Sierra Pacific Power Company v. Duke Energy Trading and Marketing, L.L.C., Enron Power Marketing, Inc., El Paso Merchant Energy and American Electric Power Services Corp.

EL02-29, 000, Nevada Power Company v. Morgan Stanley Capital Group, Calpine Energy Services, Mirant Americas Energy Marketing, L.P., Reliant Energy Services, BP Energy Company and Allegheny Energy Supply Company, L.L.C.

EL02-30, 000, Nevada Power Company v. Morgan Stanley Capital Group, Calpine Energy Services, Mirant Americas Energy Marketing, L.P., Reliant Energy Services, BP Energy Company and Allegheny Energy Supply Company, L.L.C.

EL02-31, 000, Nevada Power Company v. Morgan Stanley Capital Group, Calpine Energy Services, Mirant Americas Energy Marketing, L.P., Reliant Energy Services, BP Energy Company and Allegheny Energy Supply Company, L.L.C.

EL02-32, 000, Nevada Power Company v. Morgan Stanley Capital Group, Calpine Energy Services, Mirant Americas Energy Marketing, L.P., Reliant Energy Services, BP Energy Company and Allegheny Energy Supply Company, L.L.C.

EL02-34, 000, Nevada Power Company v. Morgan Stanley Capital Group, Calpine Energy Services, Mirant Americas Energy Marketing, L.P., Reliant Energy Services, BP Energy Company and Allegheny Energy Supply Company, L.L.C.

EL02-39, 000, Nevada Power Company v. Morgan Stanley Capital Group, Calpine Energy Services, Mirant Americas Energy Marketing, L.P., Reliant Energy Services, BP Energy Company and Allegheny Energy Supply Company, L.L.C.

EL02-43, 000, Southern California Water Company v. Mirant Americas Energy Marketing, L.P.

EL02-56, 000, Public Utility District No. 1 of Snohomish County, Washington v. Morgan Stanley Capital Group, Inc.

E-37.

Omitted

E-38.

Docket# EG02-120, 000, Big Cajun I Peaking Power LLC

E-39.

Docket# EL02-8, 000, Mirant Americas Energy Marketing, L.P., Mirant Bowline, LLC, Mirant Lovett, LLC, and Mirant NY-Gen, LLC v. New York Independent System Operator, Inc.

E-40.

Docket# EL01-79, 000, NSTAR Electric & Gas Corporation v. Sithe Edgar LLC, Sithe New Boston LLC, Sithe Framingham LLC, Sithe West Medway LLC, Sithe Mystic and PG&E Energy Trading

E-41.

Docket# ER02-1021, 001, Ontario Energy Trading International Corp.

E-42. Omitted

E-43.

Docket# ER02-1672, 001, Western Area Power Administration

E-44.

Docket# ER99-3876, 000, North Western Energy, L.L.C.

E-45.

Docket# EL00-66, 000, Louisiana Public Service Commission and the Council of the City of New Orleans v. Entergy Corporation

Other#s EL95-33, 002, Louisiana Public Service Commission v. Entergy Services, Inc.

ER00-2854, 000, Entergy Services, Inc.

E-46. Omitted

E-47.

Docket# EL01-35, 001, Mirant Delta, LLC and Mirant Potrero, LLC v. California Independent System Operator Corporation

Other#s EL00-95, 067, San Diego Gas & Electric Company v. Sellers of Energy and Ancillary Services Into Markets Operated by the California Independent System Operator Corporation and the California Power Exchange

EL00-98, 056, Investigation of Practices of California Independent System Operator Corporation and the California Power Exchange

RT01-82, 003, San Diego Gas & Electric Company

RT01-83, 003, Pacific Gas and Electric Company

RT01-85, 010, California Independent System Operator Corporation

RT01-92, 003, Southern California Edison Company

ER01-1877, 001, California Independent System Operator Corporation

PA02-1, 001, Operational Audit of the California Independent System Operator Corporation

Miscellaneous Agenda

M-1.

Omitted

Markets, Tariffs and Rates—Gas

G-1.

Omitted

G-2.

Omitted

G-3.

Docket# RP02-426, 000, Dominion Transmission, Inc.

G-4.

Omitted

G-5.

Docket# RP02-448, 000, National Fuel Gas Supply Corporation

G-6.

Omitted

G-7.

Docket# RP02-453, 000, Northwest Pipeline Corporation

G-8.

Omitted

G-9.

Docket# RP02-436, 000, Tennessee Gas Pipeline Company

G-10.

Omitted

G-11.

Docket# PR02-18, 000, Nicor Gas

G-12.

Docket# PR02-16, 000, Calpine Texas Pipeline, L.P.

Other#s PR02-16, 001, Calpine Texas Pipeline, L.P.

G-13.

Docket# PR02-19, 000, Dow Interstate Gas Company

Other#s PR02-19, 001, Dow Interstate Gas Company

G-14.

Docket# RP02-196, 001, Reliant Energy Gas Transmission Company

Other#s RP02-196, 002, Reliant Energy Gas Transmission Company

RP02-196, 000, Reliant Energy Gas Transmission Company

G-15.

Omitted

G-16.

Omitted

G-17.

Docket# RP00-412, 000, Northwest Pipeline Corporation

Other#s RP01-94, 000, Northwest Pipeline Corporation

RP01-94, 001, Northwest Pipeline Corporation

G-18.

Docket# RP00-326 001 Columbia Gulf Transmission Company

Other#s RP00-326, 000, Columbia Gulf Transmission Company

RP00-605, 000, Columbia Gulf Transmission Company

RP00-605, 001, Columbia Gulf Transmission Company

RP02-39, 000, Columbia Gulf Transmission Company

G-19.

Omitted

G-20.

Omitted

G-21.

Docket# RP02-496, 000, Pine Needle LNG Company, LLC

G-22.

Docket# RP00-336, 000, El Paso Natural Gas Company

Other#s RP01-484, 001, Aera Energy, LLC, Amoco Production Company, BP Energy Company, Burlington Resources Oil & Gas Company, LP, Conoco Inc., Coral Energy Resources, LP, ONEOK Energy Marketing & Trading Company, L.P., Pacific Gas and Electric Company, Panda Gila River L.P., Public Utilities Commission of the State of California, Southern California Edison Company, Southern California Gas Company and Texaco Natural Gas Inc. v. El Paso Natural Gas Company

RP00-139, 003, KN Marketing, L.P. v. El Paso Natural Gas Company

G-23.

Omitted

G-24.

Docket# RP00-472, 001, USG Pipeline Company

Other#s RP01-31, 001, USG Pipeline Company

G-25.

Omitted

G-26.

Docket# RP02-4, 001, Maritimes & Northeast Pipeline, L.L.C.

G-27.

Docket# RP01-612, 002, ANR Pipeline Company

Other#s RP01-612, 001, ANR Pipeline Company RP01-612, 000, ANR Pipeline Company

G-28.

Docket# OR92-8, 013, SFPP, L.P.

Other#s OR92-8, 014, SFPP, L.P.

OR92-8, 015, SFPP, L.P.

OR93-5, 010, SFPP, L.P.

OR93-5, 011, SFPP, L.P.

OR93-5, 012, SFPP, L.P.

OR94-3, 009, SFPP, L.P.

OR94-3, 010, SFPP, L.P.

OR94-3, 011, SFPP, L.P.

OR94-4, 010, SFPP, L.P.

OR94-4, 011, SFPP, L.P.

OR94-4, 012, SFPP, L.P.

OR95-5, 008, Mobil Oil Corporation v. SFPP, L.P.

OR95-34, 007, Tosco Corporation v. SFPP, L.P.

OR95-34, 008, Tosco Corporation v. SFPP, L.P.

OR95-34, 009, Tosco Corporation v. SFPP, L.P.

IS99-144, 005, SFPP, L.P.

IS99-144, 006, SFPP, L.P.

IS99-144, 007, SFPP, L.P.

IS00-379, 002, SFPP, L.P.

IS00-379, 003, SFPP, L.P.

IS00-379, 004, SFPP, L.P.

IS02-46, 001, SFPP, L.P.

IS02-82, 001, SFPP, L.P.

G-29.

Docket# RP99-301, 049, ANR Pipeline Company

Other#s GT01-25, 004, ANR Pipeline Company

G-30.

Omitted

G-31.

Docket# RP99-301, 051, ANR Pipeline Company

G-32.

Docket# RP99-301, 053, ANR Pipeline Company

G-33.

Omitted

G-34.

Omitted

G-35.

Docket# OR02-4, 001, Chevron Products Company v. SFPP, L.P.

G-36.

Docket# IS02-390, 001, Shell Pipeline Company LP

G-37.

Docket# PL02-4, 000, Waiver of Price Ceiling for Capacity Release Transactions

G-38.

Docket# RP98-54, 030, Colorado Interstate Gas Company

G-39.

Docket# RP01-245, 011, Transcontinental Gas Pipe Line Corporation

G-40.

Docket# RP02-486, 000, Enbridge Pipelines (Midla) Inc.

G-41.

Docket# RP99-518, 019, PG&E Gas Transmission, Northwest Corporation

Other#s RP99-518, 020, PG&E Gas Transmission, Northwest Corporation RP99-518, 021, PG&E Gas Transmission, Northwest Corporation RP99-518, 022, PG&E Gas Transmission, Northwest Corporation RP99-518, 023, PG&E Gas Transmission, Northwest Corporation

G-42.

Omitted

G-43.

Docket# RP02-504, 000, Iroquois Gas Transmission System, L.P.

G-44.

Omitted

G-45.

Omitted

G-46.

Docket# GT02-36, 000, Canyon Creek Compression Company

G-47.

Docket# GT02-38, 000, Northern Natural Gas Company

G-48.

Docket# PR97-1, 000, Consumers Power Company Energy Pr

ojects—Hydro

H-1.

Omitted

H-2.

Docket# P-2145, 045, Public Utility District No. 1 of Chelan County, Washington

Other#s P-943, 077, Public Utility District No. 1 of Chelan County, Washington

H-3.

Docket# P-2694, 009, Duke Power, a Division of Duke Energy Corporation, Nantahala Area

H-4.

Docket# P-1895, 011, South Carolina Electric & Gas Company

H-5.

Omitted

H-6.

Docket# P-2114, 106, The Yakima Nation v. Public Utility District No. 2 of Grant County, Washington

H-7.

Omitted

H-8.

Docket# P-2318, 011, Erie Boulevard Hydropower, L.P.

Other#s P-2318, 002 Erie Boulevard Hydropower, L.P.

H-9.

Docket# P-12252, 000, Hudson River-Black River Regulating District

H-10.

Docket# P-2482, 014, Erie Boulevard Hydropower, L.P.

Other#s P-2482, 029, Erie Boulevard Hydropower, L.P.

H-11.

Docket# P-2342, 005, PacifiCorp

Other#s P-2342, 011, PacifiCorp

H-12.

Docket# P-2318, 002, Erie Boulevard Hydropower, L.P.

Other#s P-2047, 004, Erie Boulevard Hydropower, L.P.

P-2047, 011, Erie Boulevard Hydropower, L.P.

P-2318, 011, Erie Boulevard Hydropower, L.P.

P-2482, 014, Erie Boulevard Hydropower, L.P.

P-2482, 029, Erie Boulevard Hydropower, L.P.

P-2554, 003, Erie Boulevard Hydropower, L.P.

P-2554, 012, Erie Boulevard Hydropower, L.P.

P-12252, 000, Hudson River-Black River Regulating District

H-13.

Docket# P-2047, 004, Erie Boulevard Hydropower, L.P.

Other#s P-2047, 011, Erie Boulevard Hydropower, L.P.

H-14.

Docket# P-2554, 003, Erie Boulevard Hydropower, L.P.

Other#s P-2554, 012, Erie Boulevard Hydropower, L.P.

H-15.

Docket# P-4718, 011, Cocheco Falls Associates

Other#s P-4718, 013, Cocheco Falls Associates

H-16.

Docket# P-5, 071, PP&L Montana, LLC and Confederated Salish and Kootenai Tribes of the Flathead Nation

Energy Projects—Certificates

C-1.

Docket# CP01-384, 000, Islander East Pipeline Company, LLC

Other#s CP01-384, 001, Islander East Pipeline Company, LLC

CP01-385, 000, Islander East Pipeline Company, LLC

CP01-385, 001, Islander East Pipeline Company, LLC

CP01-386, 000, Islander East Pipeline Company, LLC

CP01-386, 001, Islander East Pipeline Company, LLC

CP01-387, 000, Algonquin Gas Transmission Company

CP01-387, 001, Algonquin Gas Transmission Company

C-2.

Docket# CP01-438, 000, Northwest Pipeline Corporation

C-3.

Docket# CP02-1, 000, Southern Natural Gas Company

Other#s CP02-1, 001, Southern Natural Gas Company

C-4.

Docket# CP98-150, 000, Millennium Pipeline Company, L.P.

Other#s CP98-150, 003, Millennium Pipeline Company, L.P.

CP98-150, 004, Millennium Pipeline Company, L.P.

CP98-151, 001, Columbia Gas Transmission Corporation

CP98-151, 002, Columbia Gas Transmission Corporation

CP98-154, 001, Millennium Pipeline Company, L.P.

CP98-154, 002, Millennium Pipeline Company, L.P.

CP98-155, 001, Millennium Pipeline Company, L.P.

CP98-155, 002, Millennium Pipeline Company, L.P.

CP98-156, 001, Millennium Pipeline Company, L.P.

CP98-156, 002, Millennium Pipeline Company, L.P.

C-5.

Docket# CP02-124, 000, National Fuel Gas Supply Corporation

C-6.

Docket# CP01-176, 000, Georgia Strait Crossing Pipeline LP

Other#s CP01-176, 001, Georgia Strait Crossing Pipeline LP

CP01-176, 003, Georgia Strait Crossing Pipeline LP

CP01-177, 000, Georgia Strait Crossing Pipeline LP

CP01-177, 001, Georgia Strait Crossing Pipeline LP

CP01-178, 000, Georgia Strait Crossing Pipeline LP

CP01-178, 001, Georgia Strait Crossing Pipeline LP

CP01-179, 001, Georgia Strait Crossing Pipeline LP

C-7.

Docket# CP02-204, 000, Transcontinental Gas Pipe Line Corporation

C-8.

Docket# CP02-139, 000, Northern Natural Gas Company

C-9.

Docket# CP02-31, 000, Iroquois Gas Transmission System, L.P.

C-10.

Docket# CP02-381, 000, Texas Eastern Transmission, L.P.

C-11.

Docket# CP02-386, 000, MDU Resources Group, Inc.

C-12.

Omitted

C-13.

Docket# CP02-399, 000, Missouri Interstate Gas, LLC

Other#s CP02-400, 000, Missouri Interstate Gas, LLC

CP02-401, 000, Missouri Interstate Gas, LLC

C-14.

Docket# CP02-52, 000, Iroquois Gas Transmission System, L.P.

C-15.

Docket# CP02-317, 000, Unocal Keystone Gas Storage, LLC

C-16.

Docket# CP96-583, 002, Kinder Morgan Texas Pipeline, Inc.

C-17.

Docket# CP02-56, 000, Southern Natural Gas Company

Other#s CP02-56, 001, Southern Natural Gas Company

CP02-56, 002, Southern Natural Gas Company

CP02-57, 000, SCG Pipeline, Inc.

CP02-57, 001, SCG Pipeline, Inc.

CP02-57, 002, SCG Pipeline, Inc.

CP02-58, 000, SCG Pipeline, Inc.

CP02-59, 000, SCG Pipeline, Inc.

C-18.

Docket# CP02-99, 000, Transcontinental Gas Pipe Line Corporation

C-19.

Docket# CP02-81, 000, Natural Gas Pipeline Company of America

C-20.

Docket# CP00-40, 008, Florida Gas Transmission Company

Magalie R. Salas,
Secretary.

[FR Doc. 02-23564 Filed 9-12-02; 12:00 pm]

BILLING CODE 6717-01-P